DEPARTMENT OF THE INTERIOR

National Park Service

[NPS-WASO-NAGPRA-NPS0037201; PPWOCRADN0-PCU00RP14.R50000]

Notice of Inventory Completion: Portland State University, Portland, OR

AGENCY: National Park Service, Interior.

ACTION: Notice.

SUMMARY: In accordance with the Native American Graves Protection and Repatriation Act (NAGPRA), Portland State University (PSU) has completed an inventory of human remains and associated funerary objects and has determined that there is a cultural affiliation between the human remains and associated funerary objects and Indian Tribes or Native Hawaiian organizations in this notice. The human remains and associated funerary objects were removed from Tillamook County, OR.

DATES: Repatriation of the human remains and associated funerary objects in this notice may occur on or after February 7, 2024.

ADDRESSES: Reno Nims, Portland State University, Research & Graduate Studies, P.O. Box 751, Portland, OR 97207, telephone (503) 725-6611, email nagpra@pdx.edu.

SUPPLEMENTARY INFORMATION: This notice is published as part of the National Park Service's administrative responsibilities under NAGPRA. The determinations in this notice are the sole responsibility of PSU. The National Park Service is not responsible for the determinations in this notice. Additional information on the determinations in this notice, including the results of consultation, can be found in the inventory or related records held by PSU.

Description

Human remains representing, at minimum, five individuals were removed from an unknown location in Tillamook County, OR, at an unknown date. PSU faculty members encountered these human remains in the Anthropology Department's archeology holdings at an unknown date between 2003 and 2011. The 21 associated funerary objects are 15 pieces of worked stone, three burnt faunal remains, one bivalve shell, and two ceramic plate fragments.

Human remains representing, at minimum, one individual were removed from the site of Chishucks Village in Tillamook County, OR, in 1971 by Ron Kent, a PSU master's student in the Anthropology Department. These human remains were inadvertently excavated from deposits of faunal remains, and subsequently identified as human in 2021 and 2022 by PSU staff members during a thorough search for Native American human remains and cultural items in the Anthropology Department's archeology holdings. The one associated funerary object is a clay pipe fragment.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological information, archeological information, geographical information, and historical information.

Determinations

Pursuant to NAGPRA and its implementing regulations, and after consultation with the appropriate Indian Tribes and Native Hawaiian organizations, PSU has determined that:

• The human remains described in this notice represent the physical remains of six individuals of Native American ancestry.

• The 22 objects described in this notice are reasonably believed to have been placed with or near individual human remains at the time of death or later as part of the death rite or ceremony.

• There is a relationship of shared group identity that can be reasonably traced between the human remains and associated funerary objects described in this notice and the Confederated Tribes of Siletz Indians of Oregon; Confederated Tribes of the Grand Ronde Community of Oregon; and the Confederated Tribes of the Warm Springs Reservation of Oregon.

Requests for Repatriation

Written requests for repatriation of the human remains and associated funerary objects in this notice must be sent to the Responsible Official identified in ADDRESSES. Requests for repatriation may be submitted by:

1. Any one or more of the Indian Tribes or Native Hawaiian organizations identified in this notice, and, if joined to a request from one or more of the Indian Tribes, Chinook Indian Nation, a non-federally recognized Indian group.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after February 7, 2024. If competing requests for repatriation are received, PSU must determine the most appropriate requestor prior to repatriation. Requests for joint repatriation of the human remains and associated funerary objects are considered a single request and not competing requests. PSU is responsible for sending a copy of this notice to the Indian Tribes and Native Hawaiian organizations identified in this notice.

Authority: Native American Graves Protection and Repatriation Act, 25 U.S.C. 3003, and the implementing regulations, 43 CFR 10.9, 10.10, and 10.14.

Dated: December 28, 2023.
Melanie O'Brien,
Manager, National NAGPRA Program.

[FR Doc. 2024-00130 Filed 1-5-24; 8:45 am]

BILLING CODE 4312-52-P